DEPARTMENT OF ENERGY

Federal Energy Regulatory Commission

Notice of Compliance Filing

October 4, 2000.

In the matter of: RM9-1-014, RP00-23-000, RP01-9-000, RP00-597-000, RP00-590-000, RP01-11-000, RP00-588-000, RP00-625-000, RP00-604-000, RP00-603-000, RP01-16-000, RP00-598-000, RP00-601-000, RP01-22-000, RP00-622-000, RP00-583-000, RP00-577-000, RP00-606-000, RP00-617-000, RP00-619-000, RP00-574-000, RP00-629-000, RP00-630-000, RP01-7-000, RP01-17-000, RP01-19-000, RP00-575-000, RP01-8-000, RP00-621-000, RP01-2-000, RP00-631-000, RP00-576-000, RP00-582-000, RP00-627-000, RP01-10-000, RP00-587-000, RP00-613-000, RP01-15-000, RP01-12-000, RP00-603-000, RP00-612-000, RP00-593-000, RP00-620-000, RP01-18-000, RP01-25-000, RP00-624-000, RP00-626-000, RP00-609-000, RP00-616-000, RP01-14-000, RP00-618-000, RP01-13-000, RP00-600-000 (Not Consolidated) Standards for Business Practices of Interstate Natural Gas Pipelines, Algonquin Gas Transmission Company, Alliance Pipeline L.P., ANR Pipeline Company, ANR Storage Company, Arkansas Western Pipeline, L.L.C., Blue Lake Gas Storage Company, Canyon Creek Compression Company, Columbia Gas Transmission Corporation, Columbia Gulf Transmission Company, Dauphin Island Gathering Partners, Discovery Gas Transmission L.L.C, Dominion Transmission, Inc., East Tennessee Natural Gas Company, El Paso Natural Gas Company, Florida Gas Transmission Company, Garden Banks Gas Pipeline, L.L.C., Great Lakes Gas Transmission Limited Partnership, Gulf States Transmission Corporation, High Island Offshore System, L.L.C., Honeoye Storage Corporation, Kinder Morgan Interstate Gas Transmission L.L.C., K N Wattenberg Transmission Limited Liability Company, Koch Gateway Pipeline Company, Maritimes & Northeast Pipeline, L.L.C., Midwestern Gas Transmission Company, Mississippi Canyon Gas Pipeline L.L.C., Mississippi River Transmission Corporation, Mojave Pipeline Company, National Fuel Gas Supply Corporation, Natural Gas Pipeline Company of America, Nautilus Pipeline Company, L.L.C., Northern Border Pipeline Company, Northern Natural Gas Company, Ozark Gas Transmission, L.L.C., Pauite Pipeline Company, Panhandle Eastern Pipe Line Company, PG&E Gas Transmission, Northwest Corporation, Reliant Energy Gas Transmission Company, Sabine Pipe Line, L.L.C., Sea Robin Pipeline Company, Steuben Gas Storage Company, Stingray Pipeline Company, L.L.C., Tennessee Gas Pipeline Company, Texas Eastern Transmission Corporation, Trailblazer Pipeline Company, Transwestern Pipeline Company, Trunkline Gas Company, Trunkline LNG Company, Tuscarora Gas Transmission Company, U-T Offshore System, L.L.C., Williams Gas Pipelines Central, Inc., Williston Basin Interstate Pipeline Company.

Take notice that the above-referenced pipelines made filings in compliance with order No. 587-L. The tariff sheets implement the imbalance netting and trading regulations adopted by the Commission in Order No. 587-G and are proposed to become effective November 1, 2000.

On June 30, 2000, in Docket No. RM96-1-014, the Commission issued its Order No. 587-L, Standards for Business Practices of Interstate Natural Gas Pipelines, 91 FERC ¶ 61,350 (2000). In that order the Commission required pipelines to file revise tariff sheets to comply with the regulation requiring pipelines to permit shippers to offset imbalances on different contracts held by the shipper and to trade imbalances. The regulation was adopted in Order No. 587-G, Docket No. RM96-1-007, 83 FERC 61,029, to amend its Regulation under the Natural Gas Act.

Any person desiring to come a party must file a separate motion to intervene or protest in each docket.

Any person desiring to be heard or to protest said filing should file a motion to intervene or a protest with the Federal Energy Regulatory Commission, 888 First Street, NE., Washington, DC 20426, in accordance with Sections 385.214 or 385.211 of the Commission's Rules and Regulations. All such motions or protests must be filed on or before October 12, 2000. Protests will be considered by the Commission in determining the appropriate action to be taken, but will not serve to make protestants parties to the proceedings. Any person wishing to become a party must file a motion to intervene. Copies of these filings are on file with the Commission and are available for public inspection in the Public Reference Room. These filings may be viewed on the web at http://www.ferc.fed.us/online/rims.htm (call 202-208-2222 for assistance).

Linwood A. Watson, Jr.,
Acting Secretary.

[FR Doc. 00-26057 Filed 10-10-00; 8:45 am]

BILLING CODE 6717-01-M